DEPARTMENT OF COMMERCE

National Oceanic and Atmospheric Administration

[I.D. 111703I]

North Pacific Fishery Management Council; Notice of Public Meeting

AGENCY: National Marine Fisheries Service (NMFS), National Oceanic and Atmospheric Administration (NOAA), Commerce.

ACTION: Meetings of the North Pacific Fishery Management Council Joint Protocol Committee.

SUMMARY: The North Pacific Fishery Management Council (Council) Joint Protocol Committee of the Alaska Board of Fisheries and Council will meet in December 2003, in Anchorage, AK.

DATES: The meeting will be held on December 8, 2003, 1-5 p.m.

ADDRESSES: Hilton Hotel, 500 W. 3rd Avenue, Aspen/Spruce Room, Anchorage, AK.

Council address: North Pacific Fishery Management Council, 605 W. 4th Ave., Suite 306, Anchorage, AK 99501-2252.

FOR FURTHER INFORMATION CONTACT: Jane DiCosimo, Council staff, Phone: 907-271-2809.

SUPPLEMENTARY INFORMATION:

Agenda

(1) Steering Committee recommendations for managing State groundfish fisheries if Federal groundfish fisheries are rationalized.

(2) Review groundfish proposals submitted to the Board of Fisheries.

(3) Update on Congressional action on pending Council action (if available).

(4) Other business as necessary.

Although non-emergency issues not contained in this agenda may come before this Committee for discussion, those issues may not be the subject of formal Council action during this meeting. Committee action will be restricted to those issues specifically listed in this notice and any issues arising after publication of this notice that require emergency action under section 305(c) of the Magnuson-Stevens Act, provided the public has been notified of the Committee's intent to take final action to address the emergency.

Special Accommodations

These meetings are physically accessible to people with disabilities. Requests for sign language interpretation or other auxiliary aids should be directed to Gail Bendixen at 907-271-2809 at least 7 working days prior to the meeting date.

Dated: November 18, 2003.
Richard W. Surdi,
Acting Director, Office of Sustainable Fisheries, National Marine Fisheries Service.

[FR Doc. E3-00387 Filed 11-21-03; 8:45 am]

BILLING CODE 6717-01-P